DEPARTMENT OF ENERGY

Federal Energy Regulatory Commission

Combined Notice Of Filings #2

Take notice that the Commission received the following electric corporate filings:

Docket Numbers: EC12-1-000.

Applicants: Blue Canyon Windpower VI LLC.

Description: Application for Authorization for Disposition of Jurisdictional Facilities and Request for Expedited Action of Blue Canyon Windpower VI LLC.

Filed Date: 10/04/2011.

Accession Number: 20111004-5108.

Comment Date: 5 p.m. Eastern Time on Tuesday, October 25, 2011.

Take notice that the Commission received the following electric rate filings:

Docket Numbers: ER08-1439-004; EL09-32-004.

Applicants: New Brunswick Power Generation Corporation.

Description: New Brunswick Power Generation Corporation submits compliance filing, et al.

Filed Date: 09/29/2011.

Accession Number: 20110929-5230.

Comment Date: 5 p.m. Eastern Time on Thursday, October 20, 2011.

Docket Numbers: ER11-4013-001.

Applicants: PJM Interconnection, LLC., Commonwealth Edison Company.

Description: PJM Interconnection,LLC. submits tariff filing per: ComEd files clarification re Patzin's statements, to be effective N/A.

Filed Date: 10/04/2011.

Accession Number: 20111004-5012.

Comment Date: 5 p.m. Eastern Time on Tuesday, October 25, 2011.

Docket Numbers: ER11-4475-001.

Applicants: Rockland Wind Farm LLC.

Description: Rockland Wind Farm LLC submits tariff filing per 35.17(b): Amendment to be effective 10/4/2011.

Filed Date: 10/04/2011.

Accession Number: 20111004-5128.

Comment Date: 5 p.m. Eastern Time on Tuesday, October 25, 2011.

Docket Numbers: ER11-4478-001.

Applicants: White Creek Wind I, LLC.

Description: White Creek Wind I, LLC submits tariff filing per 35: White Creek Wind I, LLC MBR Tariff to be effective 9/8/2011.

Filed Date: 10/04/2011.

Accession Number: 20111004-5092.

Comment Date: 5 p.m. Eastern Time on Tuesday, October 25, 2011.

Docket Numbers: ER11-4498-001.

Applicants: Smoky Hills Wind Farm, LLC.

Description: Smoky Hills Wind Farm, LLC submits tariff filing per 35: Smoky Hills Wind Farm, LLC MBR Tariff to be effective 9/12/2011.

Filed Date: 10/04/2011.

Accession Number: 20111004-5090.

Comment Date: 5 p.m. Eastern Time on Tuesday, October 25, 2011.

Docket Numbers: ER11-4499-001.

Applicants: Smoky Hills Wind Project II, LLC.

Description: Smoky Hills Wind Project II, LLC submits tariff filing per 35: Smoky Hills Wind Project II, LLC MBR Tariff to be effective 9/12/2011.

Filed Date: 10/04/2011.

Accession Number: 20111004-5091.

Comment Date: 5 p.m. Eastern Time on Tuesday, October 25, 2011.

Docket Numbers: ER11-4507-001.

Applicants: Canastota Windpower, LLC.

Description: Canastota Windpower, LLC submits tariff filing per 35: Canastota Windpower, LLC MBR Tariff to be effective 9/12/2011.

Filed Date: 10/04/2011.

Accession Number: 20111004-5089.

Comment Date: 5 p.m. Eastern Time on Tuesday, October 25, 2011.

Take notice that the Commission received the following electric rate filings:

Docket Numbers: ER11-4739-000.

Applicants: Aspire Capital Management, LLC.

Description: Aspire Capital Management, LLC submits notice of cancellation, et al.

Filed Date: 09/30/2011.

Accession Number: 20110930-0033.

Comment Date: 5 p.m. Eastern Time on Friday, October 21, 2011.

Docket Numbers: ER12-14-000.

Applicants: Oceanside Power LLC.

Description: Oceanside Power LLC submits tariff filing per 35: Amended Baseline Tariff Filing to be effective 9/8/2011.

Filed Date: 10/04/2011.

Accession Number: 20111004-5029.

Comment Date: 5 p.m. Eastern Time on Tuesday, October 25, 2011.

Docket Numbers: ER12-16-000.

Applicants: Southwest Power Pool, Inc.

Description: Southwest Power Pool, Inc. submits tariff filing per 35.13(a)(2)(iii: 1166R14 Oklahoma Municipal Power Authority NITSA NOA to be effective 9/1/2011.

Filed Date: 10/04/2011.

Accession Number: 20111004-5066.

Comment Date: 5 p.m. Eastern Time on Tuesday, October 25, 2011.

Docket Numbers: ER12-17-000.

Applicants: Southern California Edison Company.

Description: Southern California Edison Company submits tariff filing per 35.15: Notice of Cancellation of Letter Agreement Coram Project to be effective 12/10/2010.

Filed Date: 10/04/2011.

Accession Number: 20111004-5079.

Comment Date: 5 p.m. Eastern Time on Tuesday, October 25, 2011.

Docket Numbers: ER12-18-000.

Applicants: Wisconsin Public Service Corporation.

Description: Wisconsin Public Service Corporation submits tariff filing per 35.13(a)(2)(iii: Balancing Authority Area Operations Coordination Agreement to be effective 10/4/2011.

Filed Date: 10/04/2011.

Accession Number: 20111004-5082.

Comment Date: 5 p.m. Eastern Time on Tuesday, October 25, 2011.

Docket Numbers: ER12-19-000.

Applicants: Upper Peninsula Power Company.

Description: Upper Peninsula Power Company submits tariff filing per 35.13(a)(2)(iii: BAAOCA between UPPCO and WEPCO to be effective 10/4/2011.

Filed Date: 10/04/2011.

Accession Number: 20111004-5084.

Comment Date: 5 p.m. Eastern Time on Tuesday, October 25, 2011.

Docket Numbers: ER12-21-000.

Applicants: Agua Caliente Solar, LLC.

Description: Agua Caliente Solar, LLC submits tariff filing per 35.12: Application for Market-Based Rate Authority and Associated Waivers to be effective 12/5/2011.

Filed Date: 10/04/2011.

Accession Number: 20111004-5135.

Comment Date: 5 p.m. Eastern Time on Tuesday, October 25, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 4, 2011.
Nathaniel J. Davis, Sr.,
Deputy Secretary.

[FR Doc. 2011-26276 Filed 10-11-11; 8:45 am]

BILLING CODE 6717-01-P